DEPARTMENT OF HOMELAND SECURITY

[Docket Number DHS-2020-0045]

Agency Information Collection Activities: Homeland Security Acquisition; Regulation (HSAR) Various Homeland Security Acquisitions Regulations, DHS Form 700-1, DHS Form 700-2, DHS Form 700-3, DHS Form 700-4

AGENCY: Department of Homeland Security, (DHS).

ACTION: 30-Day notice and request for comments; extension without change of a currently approved Collection, 1600-0002.

SUMMARY: The Department of Homeland Security, will submit the following Information Collection Request (ICR) to the Office of Management and Budget (OMB) for review and clearance in accordance with the Paperwork Reduction Act of 1995. DHS previously published this information collection request (ICR) in the Federal Register on Monday, November 16, 2020 for a 60-day public comment period. No comment was received by DHS. The purpose of this notice is to allow additional 30-days for public comments.

DATES: Comments are encouraged and will be accepted until May 12, 2021. This process is conducted in accordance with 5 CFR 1320.1

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: This information collection is associated with the forms listed below and is necessary to implement applicable parts of the HSAR (48 CFR Chapter 30). There are four forms under this collection of information request that are used by offerors, contractors, and the general public to comply with requirements in contracts awarded by the Department of Homeland Security (DHS). The information collected is used by contracting officers to ensure compliance with terms and conditions of DHS contracts. The forms are as follows:

(1) DHS Form 700-1, Cumulative Claim and Reconciliation Statement (see (HSAR) 48 CFR 3004.804-507(a)(3)

(2) DHS Form 700-2, Contractor's Assignment of Refund, Rebates, Credits and Other Amounts (see (HSAR) 48 CFR 3004.804-570(a)(2)

(3) DHS Form 700-3, Contractor's Release (see (HSAR) 48 CFR 3004.804-570(a)(1)

(4) DHS Form 700-4, Employee Claim for Wage Restitution (see (HSAR) 48 CFR 3022.406-9

These forms will be prepared by individuals, contractors or contract employees during contract administration. The information collected includes the following:

• DHS Forms 700-1, 700-2 and 700-3: Prepared by individuals, contractors or contractor employees prior to contract closure to determine whether there are excess funds that are available for deobligation versus remaining (payable) funds on contracts; assignment or transfer of rights, title, and interest to the Government; and release from liability. The contracting officer obtains the forms from the contractor for closeout, as applicable. Forms 700-1 and 02 are mainly used for calculating costs related to the closeout of cost-reimbursement, time-and-materials, and labor-hour contracts; and, Form 700-3 is mainly used for calculating costs related to the closeout of cost-reimbursement, time-and-materials, and labor-hour contracts but can be used for all contract types.

• DHS Form 700-4 is prepared by contractor employees making claims for unpaid wages. Contracting officers must obtain this form from employees seeking restitution under contracts to provide to the Comptroller General. This form is applicable to all contract types, both opened and closed.

The prior information collection request for OMB No. 1600-0002 was approved through November 30, 2021 by OMB in a Notice of OMB Action. This justification supports a request for an extension of the approval.

The purpose of the information collected is to ensure proper closing of physically complete contracts. The information will be used by DHS contracting officers to ensure compliance with terms and conditions of DHS contracts and to complete reports required by other Federal agencies such as the General Services Administration and the Department of Labor (DOL). If this information is not collected, DHS could inadvertently violate statutory or regulatory requirements and DHS's interests concerning inventions and contractors' claims would not be protected.

The four DHS forms are available on the DHS Homepage (https://www.dhs.gov/acquisition-policy). These forms can be filled in electronically and submitted via email or facsimile to the specified Government point of contact. Since the responses must meet specific timeframes, a centralized mailbox or website would not be an expeditious or practical method of submission. The use of email or facsimile is the best solution and is most commonly used in the Government. The information requested by these forms is required by the HSAR. The forms are prescribed for use in the closeout of applicable contracts and during contract administration.

Information collection may or may not involve small business contractors. The burden applied to small business is the minimum consistent with the goals of ensuring responsiveness to Government requirements. To reduce burden on small businesses and other small entities, the HSAR is continuously reviewed to determine whether the requirements remain valid.

• DHS Form 700-1, Cumulative Claim and Reconciliation Statement: Less frequent incidence of collecting such information would result in inadequate closeout data. The office administering the contract would not have the necessary information to (1) determine settlement of indirect costs; and (2) adequately closeout cost-reimbursement, time-and-materials, and labor-hour contracts.

There are FAR and HSAR clauses that require protection of rights in data and proprietary information if requested and designated by an offeror or contractor. Additionally, disclosure or non-disclosure of information is handled in accordance with the Freedom of Information Act. There is no assurance of confidentiality provided to the respondents.

No PIA is required as the information is collected from DHS personnel (contractors only). Although, the DHS/ALL/PIA-006 General Contacts lists PIA does provided basic coverage. And technically, because this information is not retrieved by personal identifier, no SORN is required. However, DHS/ALL-021 DHS Contractors and Consultants provides coverage for the collection of records on DHS contractors and consultants, to include resume and qualifying employment information.

The burden estimates provided are based upon contracts reported by DHS and its Components to the FPDS for Fiscal Year 2019. No program changes occurred and there were no changes to the information being collected. However, the burden was adjusted to reflect an agency adjustment decrease of 22,225 in the number of respondents within DHS for Fiscal Year 2019, and an increase in the average hourly wage rate.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, (DHS).

Title: Agency Information Collection Activities: Homeland Security Acquisition Regulation (HSAR) Various Homeland Security Acquisitions Regulations.

OMB Number: 1600-0002.

Frequency: On Occasion.

Affected Public: Private Sector.

Number of Respondents: 34,013.

Estimated Time per Respondent: 1 Hour.

Total Burden Hours: 34,013.

Robert Dorr,
Executive Director, Business Management Directorate.

[FR Doc. 2021-07372 Filed 4-9-21; 8:45 am]

BILLING CODE 9112-FL-P